DEPARTMENT OF ENERGY

U.S. Energy Information Administration

Proposed Change to Data Protection

AGENCY: U.S. Energy Information Administration (EIA), U.S. Department of Energy (DOE).

ACTION: Notice and Request for Review and Comment.

SUMMARY: This notice pertains to Forms EIA-3, the Quarterly Coal Consumption and Quality Report—Manufacturing and Transformation/Processing Coal Plants and Commercial and Institutional Coal Users; EIA-5, the Quarterly Coal Consumption and Quality Report—Coke Plants; EIA-7A, the Coal Production and Preparation Report—Coal Mines and Preparation Plants; and EIA-8A, the Coal Stocks Report—Traders and Brokers. DOE's proposed changes will release or publish data received from mandatory respondents that is not company identifiable, and does not satisfy the criteria for an exemption under the Freedom of Information Act or satisfy the requirements of the Trade Secrets Act.

No changes are proposed for the standby surveys Forms: EIA-1, Weekly Coal Monitoring Report—General Industries and Blast Furnaces; EIA-4, Weekly Coal Monitoring Report—Coke Plants; EIA-6Q, Quarterly Coal Report—Coal Producers and Distributors; and EIA-20, Weekly Coal Monitoring Report of Coal Burning Utilities and Independent Power Producers.

Prior to 2011, data reported on Forms EIA-1, EIA-3, EIA-4, EIA-5, EIA-6Q, EIA-8A, and EIA-20 were protected to the extent it satisfied exemption criteria under the Freedom of Information Act and the Trade Secrets Act. Disclosure limitation procedures were applied to all data. The data protection policy for Form EIA-7A was similar except that the name and address of the responding company, the mine or plant type, and location were considered public information.

Effective January, 2011, EIA changed the data protection policy for Forms EIA-3, EIA-5, EIA-7A and EIA-8A from protecting the data as described above, to release all data reported in company identifiable form with the exception of cost data. Cost data are protected and not released in company identifiable form to the extent it satisfies exemption criteria under the Freedom of Information Act and the Trade Secrets Act. Disclosure limitation procedures (suppression methods) are applied to protect against the identifiability of the reported cost data. No changes were made to the pre-2011 protection policy for Forms EIA-1, EIA-4, EIA-6Q, and EIA-20.

The U.S. Energy Information Administration proposes to change and strengthen the data protection provisions on Forms EIA-3, EIA-5, EIA-7A and EIA-8A. Currently, data reported on these forms are not protected except for certain selected cost and revenue data elements. For Forms EIA-3, EIA-5 and EIA-8A, EIA proposes to protect company information reported on these forms from public release in identifiable form to the extent it satisfies exemption criteria under the Freedom of Information Act and the Trade Secrets Act. However, disclosure limitation procedures will not be applied to the State—and regional-level, statistical, and quantity data published from these surveys. Thus, there may be some statistics that are based on data from fewer than three respondents that may affect the identifiability of reported data. Disclosure limitation procedures will be applied to cost data reported on Forms EIA-3 and EIA-5 and revenue data reported on Forms EIA-7A and EIA-8A. With regards to Form EIA-7A only, the name and address of the responding company, the mine or plant type, and location will continue to be considered public information. These data elements will continue to be released in EIA's public use files and will not be protected from disclosure in identifiable form when releasing statistical aggregate (State-level) information. These data elements are currently released on the EIA Web site in the Form EIA-7A public use file, along with company identifiable MSHA data, which are also not protected. All other information reported on Form EIA-7A will be protected from public release in identifiable form to the extent it satisfies exemption criteria under the Freedom of Information Act and the Trade Secrets Act. All proposed changes to the data protection provisions for Forms EIA-3, EIA-5, EIA-7A and EIA-8A will be retroactive and apply to data reported for calendar years 2011 and 2012. Applying this change retroactively to data reported for 2011 preserves the continuity of certain data series and provides continuity for the main components of EIA's pre-2011 data protection policy.

DATES: Comments regarding this collection must be received on or before December 27, 2012. If you anticipate that you will be submitting comments, but find it difficult to do so within the period of time allowed by this notice, please advise the EIA-3 Survey Manager at DOE of your intention to make a submission as soon as possible. The Survey Manager may be telephoned at 202-586-8926 or emailed at tejasvi.raghuveer@eia.gov.

ADDRESSES: Written comments should be sent to: Attn: Tejasvi Raghuveer, EIA-3 Survey Manager, U.S. Energy Information Administration, EI-24, 1000 Independence Avenue SW., Washington, DC 20585.

SUPPLEMENTARY INFORMATION: EIA-3: (1) OMB No. 1905-0167; (2) Information Collection Request Title: Quarterly Coal Consumption and Quality Report—Manufacturing and Transformation/Processing Coal Plants and Commercial and Institutional Coal Users; (3) Type of Request: Change to respondent-level protection policy and disclosure limitation procedures; (4) Purpose: To collect all data elements from Form EIA-3 respondents, to release or publish data that is not company identifiable, and does not satisfy the criteria for an exemption under the Freedom of Information Act or satisfy the requirements of the Trade Secrets Act; (5) Estimated Number of Respondents Quarterly: 498; (6) Estimated Number of Responses Annually: 1992; (7) Estimated Number of Burden Hours Annually: 2490 hours; (8) Annual Estimated Reporting and Recordkeeping Cost Burden: $166,481.40.

EIA-5: (1) OMB No. 1905-0167; (2) Information Collection Request Title: Quarterly Coal Consumption and Quality Report—Coke Plants; (3) Type of Request: Change to respondent-level protection policy and disclosure limitation procedures; (4) Purpose: To collect all data elements from Form EIA-5 respondents, to release or publish data that is not company identifiable, and does not satisfy the criteria for an exemption under the Freedom of Information Act or satisfy the requirements of the Trade Secrets Act; (5) Estimated Number of Respondents Quarterly: 19; (6) Estimated Number of Responses Annually: 76; (7) Estimated Number of Burden Hours Annually: 114 hours; (8) Annual Estimated Reporting and Recordkeeping Cost Burden: $7,622.04.

EIA-7A: (1) OMB No. 1905-0167; (2) Information Collection Request Title: Coal Production and Preparation Report—Coal Mines and Preparation Plants; (3) Type of Request: Change to respondent-level protection policy and disclosure limitation procedures; (4) Purpose: To collect all data elements from Form EIA-7A respondents, to release or publish data considered public information (name and address of the responding company, the mine or plant type, and location), and does not satisfy the criteria for an exemption under the Freedom of Information Act or satisfy the requirements of the Trade Secrets Act; (5) Estimated Number of Respondents Annually: 1306; (6) Estimated Number of Responses Annually: 1306; (7) Estimated Number of Burden Hours Annually: 2350.8; (8) Annual Estimated Reporting and Recordkeeping Cost Burden: $157,174.49.

EIA-8A: (1) OMB No. 1905-0167; (2) Information Collection Request Title: Coal Stocks Report—Traders and Brokers; (3) Type of Request: Change to respondent-level protection policy and disclosure limitation procedures; (4) Purpose: To collect all data elements from Form EIA-8A respondents, to release or publish data that is not company identifiable, and does not satisfy the criteria for an exemption under the Freedom of Information Act or satisfy the requirements of the Trade Secrets Act; (5) Estimated Number of Respondents Annually: 89; (6) Estimated Number of Responses Annually: 89; (7) Estimated Number of Burden Hours Annually: 89 hours; (8) Annual Estimated Reporting and Recordkeeping Cost Burden: $5,950.54.

Statutory Authority: 15 U.S.C. 772(b), Section 13(b) of the Federal Energy Administration Act of 1974 (FEA Act), Pub. L. 93-275.

Issued in Washington, DC, on November 20, 2012.
Stephanie Brown,
Director, Statistics and Methods Group, Energy Information Administration.

[FR Doc. 2012-28701 Filed 11-26-12; 8:45 am]

BILLING CODE 6450-01-P